DEPARTMENT OF LABOR

Employment and Training Administration

[TA-W-50,468]

Textron, Cushman, Inc., Lincoln, NE; Notice of Revised Determination on Reconsideration

By letter postmarked March 26, 2003, the Paper, Allied-Industrial, Chemical and Energy International Workers Union, Local 5-0907, requested administrative reconsideration regarding the Department's Negative Determination Regarding Eligibility to Apply for Worker Adjustment Assistance, applicable to the workers of the subject firm.

The initial investigation resulted in a negative determination issued on February 3, 2003, based on the finding that imports of mini trucks, three wheel scooters, turf care application products, etc., did not contribute importantly to worker separations at the subject plant. The denial notice was published in the Federal Register on February 24, 2003 (68 FR 8619).

To support the request for reconsideration, the union supplied additional information to supplement that which was gathered during the initial investigation.

Upon further review and contact with the company, it was revealed that the company increased their imports of components competitive with those produced by the subject firm during the relevant period, contributing to the layoffs at the subject firm. The workers are not separately identifiable by product line.

Conclusion

After careful review of the additional facts obtained on reconsideration, I conclude that increased imports of articles like or directly competitive with those produced at Textron, Cushman, Inc., Lincoln, Nebraska, contributed importantly to the declines in sales or production and to the total or partial separation of workers at the subject firm. In accordance with the provisions of the Act, I make the following certification:

All workers of Textron, Cushman, Inc., Lincoln, Nebraska, who became totally or partially separated from employment on or after December 30, 2001 through two years from the date of this certification, are eligible to apply for adjustment assistance under section 223 of the Trade Act of 1974.

Signed in Washington, DC, this 16th day of July, 2003.
Elliott S. Kushner,
Certifying Officer, Division of Trade Adjustment Assistance.

[FR Doc. 03-18821 Filed 7-23-03; 8:45 am]

BILLING CODE 4510-30-P